ENVIRONMENTAL PROTECTION AGENCY

40 CFR Part 300

[FRL-7088-3]

National Oil and Hazardous Substances Pollution Contingency Plan; National Priorities List

AGENCY: Environmental Protection Agency (EPA).

ACTION: Direct Final Deletion of the ICG Iselin Railroad Yard Site from the National Priorities List (NPL).

SUMMARY: EPA Region 4 announces the deletion of the ICG Iselin Railroad Yard Site (site) from the NPL and requests public comment on this action. The NPL constitutes appendix B to part 300 of the National and Hazardous Substances Pollution Contingency Plan (NCP), which EPA promulgated pursuant to section 105 of the Comprehensive Environmental Response, Compensation, and Liability Act of 1980 (CERCLA) as amended. The EPA has determined that the site poses no significant threat to public health or the environment, as defined by CERCLA, and therefore, no further remedial measures pursuant to CERCLA is warranted.

DATES: This “direct final” action will be effective January 7, 2002, unless EPA receives significant adverse or critical comments by December 10, 2001. If adverse comments are received, EPA will publish a timely withdrawal of the direct final rule in the Federal Register informing the public that the rule will not take effect.

ADDRESSES: Comments may be mailed to Robert West, Remedial Project Manager, U.S. Environmental Protection Agency, Region 4, 61 Forsyth Street, S.W., Atlanta, GA 30303, (404) 562-8806, west.robert@epa.gov. Comprehensive information on this site is available through the public docket which is available for viewing at the site information repositories at the following locations: U.S. EPA Region 4, 61 Forsyth Street, S.W., Atlanta, GA 30303; and the Jackson-Madison County Library, 433 East Lafayette, Jackson, TN 38305, (901) 423-0225.

FOR FURTHER INFORMATION CONTACT: Robert West, Remedial Project Manager, U.S. Environmental Protection Agency, Region 4, 61 Forsyth Street, S.W., Atlanta, GA 30303, (404) 562-8806 Fax (404) 562-8788, west.robert@epa.gov.

SUPPLEMENTARY INFORMATION:

Table of Contents:

I. Introduction

II. NPL Deletion Criteria

III. Deletion Procedures

IV. Basis of Intended Site Deletion

V. Action

I. Introduction

The U.S. Environmental Protection Agency Region 4 announces the deletion of the ICG Iselin Railroad Yard Site, Jackson, Tennessee, from the National Priorities List (NPL), appendix B of the National Oil and Hazardous Substances Pollution Contingency Plan (NCP), 40 CFR part 300. EPA identifies sites that appear to present a significant risk to public health, welfare, or the environment and maintains the NPL as the list of these sites. EPA has determined that the ICG Iselin Railroad Yard site does not pose an imminent and substantial endangerment to the public health and welfare, and the environment. EPA will accept public comments for thirty days after publication of this document in the Federal Register.

Section II of this document describes the criteria for deleting sites from the NPL. Section III discusses deletion procedures. Section IV explains the basis for the intended deletion, and discusses the history of the site. Section V states EPA's action to delete the site from the NPL unless dissenting comments are received during the comment period.

II. NPL Deletion Criteria

Section 300.425(e) of the NCP provides that sites may be deleted from, or recategorized on the NPL where no further response is appropriate. In making a determination to delete a release from the NPL. EPA shall consider, in consultation with the state, whether the following criteria has been met:

(i) Responsible parties or other persons have implemented all appropriate response action required;

(ii) All appropriate fund-financed response under CERCLA has been implemented, and no further response action by responsible parties is appropriate; or

(iii)The remedial investigation has shown that the release poses no significant threat to public health or the environment and, therefore, taking of remedial measures is not appropriate.

In the case of the ICG Iselin Railroad Yard Site, Tennessee Department of Environment and Conservation's (TDEC) remedial investigation and subsequent follow up groundwater studies conducted under EPA's supervision, indicted that the site does not pose a significant threat to public health or the environment, and, therefore, active remedial measures are not appropriate. If new information becomes available which indicates a need for future action, EPA may initiate any remedial action necessary. In accordance with the NCP (40 CFR 300.425 (e)(3)), whenever there is a significant release from a site deleted from the NPL, the site shall be restored to the NPL without application of the Hazard Ranking System (HRS).

III. Deletion Procedures

The following procedures were used for the intended deletion of the site:

(1) All appropriate response under CERCLA has been implemented and no further action by EPA is appropriate; (2) The Tennessee Department of Environment and Conservation has concurred with the proposed deletion decision; (3) A notice has been published in the local newspaper and has been distributed to appropriate federal, state and local officials and other interested parties announcing the commencement of a 30-day public comment period on EPA's Direct Final Deletion; and, (4) All relevant documents have been made available for public review in the local site information repository. EPA is requesting only dissenting comments on the proposed action to delete.

For deletion of the release from the site, EPA's Regional Office will accept and evaluate public comments on EPA's Final Notice before making a final decision to delete. If no dissenting comments are received, no further activities will be implemented and this “direct final” action will become effective. Deletion of the site from the NPL does not itself create, alter, or revoke any individual's rights or obligations. The NPL is designed primarily for informational purposes and to assist EPA management. As mentioned in Section II of this document, § 300.425 (e)(3) of the NCP states that the deletion of a site from the NPL does not preclude eligibility for future response actions.

IV. Basis for Intended Site Deletion

The following site summary provides EPA's rationale for the proposal to delete the ICG Iselin Railroad Yard Site from the NPL.

The ICG Iselin Railroad Yard Site is located in Jackson, Madison County, Tennessee. The Site is an 80-acre property located at the intersection of Eastern Street and Magnolia Street in Jackson. The facility has had several owners over the years, each of whom used it for various purposes related to railroad operation. The Mobile and Ohio Railroad Co. operated the facility as a railroad station and maintenance depot from 1906 until 1940 when Gulf Mobile and Ohio Railroad Company purchased Mobile and Ohio Railroad Co. Gulf Mobile continued to use the facility as a railyard. In 1972, Gulf Mobile reorganized as the Illinois Central Gulf Railroad Company (ICG). ICG used the site as a locomotive maintenance facility from 1972 until 1986, when the Williams Steel Co. purchased much of the property. Norfolk Southern Railway Co. owns the remainder of the property. The site had several contaminated units: a main warehouse; numerous railroad tracks; storage tanks; a battery waste disposal pile; a rail car fueling platform under an open-air shed; and the railyard's pollution control system, which includes a neutralization tank, a concrete tank, several drainage ditches, and a surface impoundment.

The Site was placed on the National Priorities list on December 16, 1994. Upon execution of the Non-Fund Finance Agreement (NFFA) between EPA and TDEC, TDEC oversaw the remediation of the Site. EPA reviewed and commented or concurred on most documents pertaining to the remediation process. Under a State Commissioner's Order, the PRPs conducted a RI/FS which included a Baseline Human Health Risk Assessment. The RI detected arsenic and TCE in groundwater above recommended levels. However, further investigation revealed both contaminants were originating from off-site source(s) upgradient of the Site. TDEC is currently investigating the areas upgradient of the Site. TDEC approved the RI/FS in August 1997.

V. Action

In September 1998, a Non-Time Critical Removal Action Work Plan was submitted to TDEC. The report characterized contaminated on-site soils. A Public Meeting was held on October 8, 1998 to inform the community of the removal action. TDEC issued an Action Memorandum on October 21, 1998 to document State approval of the removal action. The excavated soil was staged, treated and analyzed using the toxicity characteristic leaching procedure (TCLP). The removal action required excavation of approximately 716 tons of lead contaminated soil. The contaminated soil was disposed of in the Jackson-Madison County Landfill. Finally, all disturbed areas were seeded, fertilized and mulched.

On November 4, 1999, consistent with the NFFA, TDEC's Director of Superfund approved a Record of Decision. Pursant to the NFFA, EPA had issued a concurrence letter in October 1999. The ROD was executed on November 4, 1999. The selected alternative is institutional controls which include deed restrictions and prohibits drilling of water wells on Site. All institutional controls are currently in place. TDEC sent EPA a Certification Letter on November 4, 1999 stating the Site had been remediated to the extent practicable. Furthermore, the letter concludes that the Site appears protective of human health and the environment, complies with federal and state requirements that are applicable or relevant and appropriate to remedial action and is cost-effective. This remedy utilizes permanent solutions and alternative treatment technologies to the maximum extent practicable, and satisfies the statutory preference for remedies that employ treatment that reduces toxicity, mobility and volume. Finally, it concludes that all construction actives relative to CERCLA are complete.

In March 2000, EPA issued and TDEC concurred on the Final Close Out Report and Final Remedial Action Report. Finally, TDEC will conduct Statutory Five-Year reviews at the Site to ensure the selected remedy remains protective of human health and the environment.

VI. State Concurrence

TDEC in a letter dated June 30, 2001 concurs with EPA that the criteria for deletion of the NPL listing have been met. Therefore, EPA is deleting the ICG Iselin Railroad Yard site from the NPL, effective on January 7, 2002. However, if EPA receives dissenting comments by December 10, 2001. EPA will publish a document that withdraws this action.

List of Subjects in 40 CFR Part 300

Environmental protection, Chemicals, Hazardous substances, Hazardous wastes, Intergovernmental relations, Penalties, Superfund, Water pollution control, Water supply.

Dated: September 10, 2001.
A. Stanley Meiburg,
Acting Regional Administrator, Region 4.

Part 300, title 40 of Chapter I of the Code of Federal Regulations is amended as follows:

PART 300—[AMENDED]

1. The authority citation for part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp.; p. 193.

Appendix B—[Amended]

2. Table 1 of appendix B to part 300 is amended by removing the site for the “ICG Iselin Railroad Yard, Jackson, TN.”

[FR Doc. 01-27831 Filed 11-7-01; 8:45 am]

BILLING CODE 6560-50-P